DEPARTMENT OF COMMERCE

International Trade Administration

[A-475-818]

Certain Pasta From Italy: Notice of Partial Rescission of Antidumping Duty Administrative Review

AGENCY: Enforcement and Compliance, International Trade Administration, Department of Commerce.

DATES: Effective Date: January 28, 2015.

FOR FURTHER INFORMATION CONTACT: Christopher Hargett or George McMahon AD/CVD Operations, Office III, Enforcement and Compliance, International Trade Administration, U.S. Department of Commerce, 14th Street and Constitution Avenue NW., Washington, DC 20230; telephone: (202) 482-4161 or (202) 482-1167, respectively.

SUPPLEMENTARY INFORMATION:

Background

On July 1, 2014, the Department of Commerce (the Department) published a notice of opportunity to request an administrative review of the antidumping duty order on certain pasta from Italy.¹ Pursuant to requests from interested parties, the Department published in the Federal Register the notice of initiation of this antidumping duty administrative review with respect to the following companies for the period July 1, 2013, through June 30, 2014: Pastificio Andalini S.p.A. (Andalini), Dalla Costa Alimentare SRL. (Dalla Costa), Delverde Industrie Alimentari S.p.A. (Delverde), La Molisana S.p.A. (La Molisana), Rummo, S.p.A. (Rummo), and Pasta Lensi S.r.L. (Pasta Lensi).² On October 10, 2014, and November 25, 2014, respectively, Dalla Costa and Pasta Lensi timely withdrew their respective requests for a review.³

¹ See Antidumping or Countervailing Duty Order, Finding, or Suspended Investigation; Opportunity To Request Administrative Review, 79 FR 37289 (July 1, 2014).

² See Initiation of Antidumping and Countervailing Duty Administrative Reviews, 79 FR 51548 (August 29, 2014) (Initiation Notice).

³ See Letter from Dalla Costa to the Department, “Antidumping Duty Administrative Review of Ce1tain Pasta from Italy: Withdrawal of Review Request for Administrative Review of Dalla Costa Alimentare SRL,” dated October 10, 2014; Letter from Pasta Lensi to the Department, “Pasta from Italy: Withdrawal of Request for Administrative Review,” dated November 25, 2014.

Partial Rescission of the 2013-2014 Administrative Review

Pursuant to 19 CFR 351.213(d)(1), the Secretary will rescind an administrative review, in whole or in part, if the parties that requested a review withdraw the request within 90 days of the date of publication of the notice of initiation of the requested review. The Department initiated the instant review on August 29, 2014.⁴ Dalla Costa and Pasta Lensi withdrew their requests for a review on October 10, 2014 and November 25, 2014, respectively, which is within the 90-day deadline. No other party requested an administrative review of these particular companies. Therefore, in accordance with 19 CFR 351.213(d)(1), we are rescinding this review of the antidumping duty order on certain pasta from Italy, in part, with respect to Dalla Costa and Pasta Lensi. The instant review will continue with respect to Andalini, Delverde, La Molisana, and Rummo.

⁴ See Initiation Notice.

Assessment

The Department will instruct CBP to assess antidumping duties on all appropriate entries. For the companies for which this review is rescinded, Dalla Costa and Pasta Lensi, antidumping duties shall be assessed at rates equal to the cash deposit of estimated antidumping duties required at the time of entry, or withdrawal from warehouse, for consumption, during the period July 1, 2013, through June 30, 2014, in accordance with 19 CFR 351.212(c)(1)(i).

The Department intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in the Secretary's presumption that reimbursement of antidumping and/or countervailing duties occurred and the subsequent increase in the amount of antidumping duties assessed.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: January 23, 2015.
Christian Marsh,
Deputy Assistant Secretary for Antidumping and Countervailing Duty Operations.

[FR Doc. 2015-01586 Filed 1-27-15; 8:45 am]

BILLING CODE 3510-DS-P